DEPARTMENT OF HEALTH AND HUMAN SERVICES

Administration for Children and Families

Tribal Consultation Meetings

AGENCY: Office of Head Start (OHS), Administration for Children and Families (ACF), U.S. Department of Health and Human Services (HHS).

ACTION: Notice of meetings.

SUMMARY: Pursuant to the Head Start Act, notice is hereby given of three tribal consultation sessions to be held between HHS/ACF OHS leadership and the leadership of tribal governments operating Head Start and Early Head Start programs. The purpose of these consultation sessions is to discuss ways to better meet the needs of American Indian and Alaska Native (AI/AN) children and their families, taking into consideration funding allocations, distribution formulas, and other issues affecting the delivery of Head Start services in their geographic locations. Three tribal consultations will be held as part of HHS/ACF or ACF Tribal Consultation Sessions.

DATES:

Tuesday, July 12, 2022

Monday, August 15, 2022

Wednesday, September 14, 2022

ADDRESSES:

• July 12, 2022—3-5 p.m. ET (Virtual)

• August 15, 2022—1-5 p.m. PT (Northern Quest Resort & Casino, 100 N Hayford Rd., Airway Heights, WA 99001)

• September 14, 2022—2-5 p.m. ET (Virtual)

FOR FURTHER INFORMATION CONTACT: Todd Lertjuntharangool, Regional Program Manager, Region XI/AIAN, Office of Head Start, email Todd.Lertjuntharangool@acf.hhs.gov, or phone (866) 763-6481. Additional information and online meeting registration will be available here.

SUPPLEMENTARY INFORMATION: In accordance with Section 640(l)(4) of the Head Start Act, 42 U.S.C. 9835(1)(4), ACF announces OHS Tribal Consultation Sessions for leaders of tribal governments operating Head Start and Early Head Start programs.

The agenda for the scheduled OHS Tribal Consultations reflects the statutory purposes of Head Start tribal consultations related to meeting the needs of AI/AN children and families. OHS will also highlight the progress made in addressing issues and concerns raised in the previous OHS Tribal Consultations.

The consultation sessions include elected or appointed leaders of tribal governments and their designated representatives. Designees must have a letter from the tribal government authorizing them to represent the tribe. Tribal governments must submit the designee letter at least 3 days before the consultation sessions to Todd Lertjuntharangool at Todd.Lertjuntharangool@acf.hhs.gov. Other representatives of tribal organizations and Native nonprofit organizations are welcome to attend as observers.

Within 45 days of the consultation sessions, a detailed report of each consultation session will be available for all tribal governments receiving funds for Head Start and Early Head Start programs. Tribes can submit written testimony for the report to Todd Lertjuntharangool at Todd.Lertjuntharangool@acf.hhs.gov prior to each consultation session or within 30 days of each meeting. OHS will summarize oral testimony and comments from the consultation sessions in each report without attribution, along with topics of concern and recommendations.

Roshelle M. Brooks,
ACF Certifying Officer.

[FR Doc. 2022-13532 Filed 6-23-22; 8:45 am]

BILLING CODE 4184-40-P